DEPARTMENT OF ENERGY

Federal Energy Regulatory Commission

[Docket No. EL20-33-000]

City of Goose Creek v. South Carolina Public Service Authority; Notice of Amended and Restated Complaint

Take notice that on March 26, 2020, pursuant to sections 206 and 306 of the Federal Power Act,¹ and Rule 206 and 215 of the Rules of Practice and Procedures of the Federal Energy Regulatory Commission (Commission), 18 CFR 385.206 and 385.215, the City of Goose Creek, (Complainant) filed an amended and restated complaint against the South Carolina Public Service Authority (Santee Cooper or Respondent) alleging that Santee Cooper has unjustly and unreasonably denied transmission service to the City of Goose Creek and unduly discriminated against the City of Goose Creek by denial of this service, as more fully explained in the complaint.

¹ 16 U.S.C. 824e, 824i, 824j, 825e (2019).

The Complainant certifies that copies of the amended and restated complaint were served on the contacts for the Respondent as listed on the Commission's list of Corporate Officials.

Any person desiring to intervene or to protest this filing must file in accordance with Rules 211 and 214 of the Commission's Rules of Practice and Procedure (18 CFR 385.211, 385.214). Protests will be considered by the Commission in determining the appropriate action to be taken but will not serve to make protestants parties to the proceeding. Any person wishing to become a party must file a notice of intervention or motion to intervene, as appropriate. The Respondent's answer and all interventions, or protests must be filed on or before the comment date. The Respondent's answer, motions to intervene, and protests must be served on the Complainant.

The Commission encourages electronic submission of protests and interventions in lieu of paper using the “eFiling” link at http://www.ferc.gov. Persons unable to file electronically should submit an original and 5 copies of the protest or intervention to the Federal Energy Regulatory Commission, 888 First Street NE, Washington, DC 20426.

In addition to publishing the full text of this document in the Federal Register, The Commission provides all interested persons an opportunity to view and/or print the contents of this document via the internet through the Commission's Home Page (http://www.ferc.gov) using the “eLibrary” link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

Comment Date: 5:00 p.m. Eastern Time on April 15, 2020.

Dated: March 30, 2020.
Nathaniel J. Davis, Sr.,
Deputy Secretary.

[FR Doc. 2020-07027 Filed 4-2-20; 8:45 am]

BILLING CODE 6717-01-P